DEPARTMENT OF ENERGY

Federal Energy Regulatory Commission

[Docket No. RP00-399-005]

National Fuel Gas Supply Corporation; Notice of Correction Filing

September 25, 2001.

Take notice that on September 18, 2001 National Fuel Gas Supply Corporation (National Fuel) tendered for filing as part of its FERC Gas Tariff, Fourth Revised Volume No. 1, Sub. First Revised Sheet No. 45.

National Fuel states that the purpose of the instant filing is to make a correct to Sheet No. 45 included in the August 31, 2001 compliance filing, which contained redundant language that should have been deleted. National Fuel is submitting Substitute First Revised Sheet No. 45 to make this correction, which conforms the EFT Rate Schedule language regarding overrun transportation to the language of the FT Rate Schedule.

National Fuel states that copies of this filing were served upon its customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24307 Filed 9-27-01; 8:45 am]

BILLING CODE 6717-01-P